DEPARTMENT OF JUSTICE

Antitrust Division

Notice Pursuant to the National Cooperative Research and Production Act of 1993—the Acoustical Society of America

Notice is hereby given that, on January 17, 2012, pursuant to Section 6(a) of the National Cooperative Research and Production Act of 1993, 15 U.S.C. 4301 et seq. (“the Act”), The Acoustical Society of America (“ASA”) has filed written notifications simultaneously with the Attorney General and the Federal Trade Commission disclosing additions or changes to its standards development activities. The notifications were filed for the purpose of extending the Act's provisions limiting the recovery of antitrust plaintiffs to actual damages under specified circumstances. Specifically, since December 2, 2011, ASA has expanded the scope of its standard development activity to include underwater acoustics.

On September 20, 2004, ASA filed its original notification pursuant to Section 6(a) of the Act. The Department of Justice published a notice in the Federal Register pursuant to Section 6(b) of the Act on November 10, 2004 (69 FR 65224).

Patricia A. Brink,
Director of Civil Enforcement, Antitrust Division.

[FR Doc. 2012-2597 Filed 2-3-12; 8:45 am]

BILLING CODE P